DEPARTMENT OF COMMERCE

International Trade Administration

[A-580-807]

Polyethylene Terephthalate Film, Sheet, and Strip from the Republic of Korea: Final Results of Antidumping Duty Administrative Review

AGENCY: Import Administration, International Trade Administration, Department of Commerce.

SUMMARY: On July 6, 2009 the Department of Commerce (the Department) published the preliminary results of the administrative review of the antidumping order on polyethylene terephthalate film, sheet and strip (PET film) from the Republic of Korea (Korea). See Polythylene Terephthalate Film, Sheet, and Strip from the Republic of Korea: Preliminary Results of Antidumping Duty Administrative Review, 74 FR 31922 (July 6, 2009) (Preliminary Results). This review covers one manufacturer/exporter of the subject merchandise to the United States, Kolon Industries, Inc. (Kolon). The period of review (POR) is October 2, 2007, through May 31, 2008.

Based on our analysis of the comments received, we have made changes in the margin calculation for Kolon. Therefore, the final results differ from the preliminary results. The final weighted-average dumping margin is listed below in the section entitled “Final Results of Review.”

EFFECTIVE DATE: November 10, 2009.

FOR FURTHER INFORMATION CONTACT: Michael J. Heaney or Robert James, AD/CVD Operations, Office 7, Import Administration, International Trade Administration, U.S. Department of Commerce, 14th Street and Constitution Avenue, NW., Washington, DC 20230; telephone: (202) 482-4475 or (202) 482-0649, respectively.

SUPPLEMENTARY INFORMATION:

Background

This review covers one manufacturer/exporter of the subject merchandise, Kolon. On July 6, 2009, the Department published in the Federal Register the preliminary results of the October 2, 2007, through May 31, 2008, administrative review of the antidumping order on PET film from Korea. See Preliminary Results.

We invited interested parties to comment on the preliminary results of review. On August 5, 2009, we received comments from Kolon. We received no rebuttal comments. The Department has conducted this administrative review in accordance with section 751 of the Tariff Act of 1930, as amended (the Act).

Scope of the Order

Imports covered by this review are shipments of all gauges of raw, pretreated, or primed polyethylene terephthalate film, sheet, and strip, whether extruded or coextruded. The films excluded from this review are metallized films and other finished films that have had at least one of their surfaces modified by the application of a performance enhancing resinous or inorganic layer of more than 0.00001 inches (0.254 micrometers) thick. PET film is currently classifiable under Harmonized Tariff Schedule (HTS) subheading 3920.62.00.90 The HTS subheading is provided for convenience and for customs purposes. The written description remains dispositive as to the scope of the product coverage.

Analysis of Comments Received

All issues raised in the case brief submitted by Kolon are addressed in the “Issues and Decision Memorandum” (Decision Memorandum) from Edward M. Yang, Senior Executive Coordinator, China/NME Unit, to Ronald K. Lorentzen, Acting Assistant Secretary for Import Administration, dated November 3, 2009, which is adopted by this notice. A list of issues which parties have raised is in the Decision Memorandum and is attached to this notice as an appendix. Parties can find a complete discussion of all issues raised in this review and the corresponding recommendations in the Decision Memorandum which is on file in the Central Records Unit, Room 1117, of the main Commerce Building. In addition, a complete version of the Decision Memorandum can be accessed directly on the Web at http://www.ia.ita.doc.gov/frn. The paper copy and the electronic version of the Decision Memorandum are identical in content.

Changes Since the Preliminary Results

Based on our analysis of the comments received, we have made certain changes in the margin calculations. These changes are discussed in the relevant sections of the Decision Memorandum and the Memorandum to the File from Michael J. Heaney dated November 3, 2009 (Analysis Memorandum). Specifically, for these final results:

1) We have deducted from NV the inland freight expenses incurred by Kolon in shipping PET film from its plant to its warehouse.

2) We have calculated a single, importer-specific assessment rate for Kolon's CEP sales.

Final Results of Review

We determine that the following weighted-average margin percentage exists for the period October 2, 2007, through May 31, 2008:

Manufacturer / Exporter | Margin
Kolon Industries, Inc. | 0.13 percent (de minimis)

Assessment

Since the final rate for Kolon Industries, Inc. is de minimis, the Department will instruct Customs and Border Protection (CBP) to assess no dumping duties on the entries covered by this review. The Department intends to issue appraisement instructions to CBP 15 days after the date of publication of these final results of review.

Cash Deposit Requirements

The following cash deposit requirements will be effective upon publication of this final results of review for all shipments of the subject merchandise entered, or withdrawn from warehouse, for consumption on or after the publication date, as provided for by section 751(a)(2)(C) of the Act: (1) because the rate for Kolon is de minimis, i.e., less than 0.5 percent, no cash deposit will be required for Kolon; (2) if the exporter is not a firm covered in this review or the less than fair value (LTFV) investigation, but the manufacturer is, the cash deposit rate will be the rate established for the most recent period for the manufacturer of the merchandise; and (3) if neither the exporter nor the manufacturer is a firm covered in this or any previous review, the cash deposit rate will be the all-others rate of 21.50 percent from the LTFV investigation. See Polyethylene Terephthalate Film, Sheet, and Strip From the Republic of Korea; Notice of Final Court Decision and Amended Final Determination of Anti-Dumping Duty Investigation, 62 FR 50557 (September 26, 1997).¹

¹ The Preliminary Results incorrectly listed the all others rate as 4.82 percent. However, that 4.82 cash deposit rate was amended because of judicial review to the 21.50 percent rate listed in this notice.

Notification to Interested Parties

The Department will disclose calculations performed in connection with the final results of review within five days of the date of publication of this notice in accordance with 19 CFR 351.224(b).

This notice also serves as a reminder to parties subject to administrative protective orders (APO) of their responsibility concerning the disposition of proprietary information disclosed under APO in accordance with 19 CFR 351.305(a)(3). Timely written notification of the return/disposition of APO materials or conversion to judicial protective order is hereby requested. Failure to comply with the regulations and the terms of an APO is a sanctionable violation.

We are issuing and publishing this determination in accordance with section 751(a)(1) and 777(i) of the Act.

Dated: November 3, 2009.
Ronald K. Lorentzen,
Acting Assistant Secretary for Import Administration.

Appendix-Comments in Decision Memo

1. Inland Freight incurred by Kolon from plant to warehouse

2. Calculation of a single, importer-specific assessment rate for Kolon's CEP sales

3. Zeroing

[FR Doc. E9-27078 Filed 11-09-09; 8:45 am]

BILLING CODE 3510-DS-S